DEPARTMENT OF HEALTH AND HUMAN SERVICES

Program Support Center; Statement of Organization, Functions, and Delegations of Authority

Part P, Program Support Center (PSC), Statement of Organization, Functions and Delegations of authority for the Department of Health and Human Services (HHS) (66 FR 31240-41, October 2, 1995, and as last amended at 66 FR 35981-82, July 10, 2001) is being amended to reflect a change in the reporting relationship of the PSC Director, within HHS. The PSC Director will receive directions from the Deputy Assistant Secretary for Management and Operations, Office of Management and Operations (AJC), Office of the Assistant Secretary for Administration and Management (AJ). The changes are as follows:

I. Under Chapter P, paragraph P.10 Organization, replace with the following:

P.10 Organization. The Program Support Center is a component within HHS to provide a wide range of support and administrative services to HHS components and other Federal agencies. The Program Support Center shall be under the direction of a Director, who receives day-to-day guidance from the Deputy Assistant Secretary for Management and Operations, Office of Management and Operations (AJC), who reports to the Assistant Secretary for Administration and Management (AJ).

II. Under Paragraph P.20 Functions, paragraph A. “Office of the Director,” replace with the following:

A. Office of the Director (PA). The PSC Director is responsible to the Deputy Assistant Secretary for Management and Operations, Office of Management and Operations, Office of the Assistant Secretary for Administration and Management, in managing and directing the PSC. The Office functions include (1) providing leadership for the implementation of the PSC responsibilities in accomplishing its mission, (2) providing staff support to the Director of the PSC; (3) developing customer service strategic and marketing plans; and (4) coordinating publication of reports to HHS management, customers and employees.

III. Continuations of Regulations

Except as inconsistent with this reorganization, all regulations, rules, orders, statements of policy and interpretations with respect to the Program Support Center heretofore issued and in effect prior to the date of this Reorganization, or to become effective subsequent to said date are continued in full force and effect.

IV. Prior Statements of Organizations, Functions, and Delegations of Authority

A. All delegations of authorities made to the PSC components, and all further redelegations of such authorities in effect immediately prior to the effective date of this Reorganization shall continue in effect pending further redelegation.

B. To the extent inconsistent with this Reorganization, all previous statements of organizations, functions, delegations of authority, as well as applicable present Chapters of Part P, of the Department's Organizational Manual shall remain unchanged, pending further changes by the Assistant Secretary for Administration and Management.

Dated: November 14, 2001.
Tommy G. Thompson,
Secretary.

[FR Doc. 01-29175 Filed 11-21-01; 8:45 am]

BILLING CODE 4166-17-M